DEPARTMENT OF TRANSPORTATION

Federal Aviation Administration

14 CFR Part 71

[Docket No. FAA-2008-0339; Airspace Docket No. 08-ASW-5]

Amendment of Class D and Class E Airspace; Altus AFB, OK

AGENCY: Federal Aviation Administration (FAA), DOT.

ACTION: Direct final rule; withdrawal.

SUMMARY: A direct final rule, published in the Federal Register April 14, 2008 (73 FR 19997) docket No. FAA-2008-0339, adding additional Class D and Class E airspace at Altus AFB, Altus, OK, is being withdrawn. Although the rule became effective June 5, 2008, charting of this airspace was never completed. A new rulemaking will be forthcoming with an effective date that coincides with the new charting date.

DATES: Effective Date: 0901 UTC July 9, 2008.

FOR FURTHER INFORMATION CONTACT: Gary Mallett, Central Service Center, Operations Support Group, Federal Aviation Administration, Southwest Region, 2601 Meacham Blvd., Fort Worth, Texas 76193-0530; telephone number (817) 222-4949.

SUPPLEMENTARY INFORMATION:

History

On April 14, 2008, the FAA published a direct final rule; request for comments, in the Federal Register (73 FR 19997) Docket No. FAA-2008-0339, amending the existing Class D and Class E airspace areas at Altus AFB, Altus, OK. No comments were received therefore the rule became effective on the date specified, June 5, 2008. It was then determined that the airspace had not been charted. Therefore, the FAA is withdrawing this rulemaking and will issue a new rulemaking with a new effective date to coincide with the charting date.

List of Subjects in 14 CFR Part 71

Airspace, Incorporation by reference, Navigation (Air).

Withdrawal of the Rule

Accordingly, pursuant to the authority delegated to me, Airspace Docket No. 08-ASW-5, as published in the Federal Register on April 14, 2008 (73 FR 19997), is hereby withdrawn.

Authority: 49 U.S.C. 106(g); 40103, 40113, 40120; E.O. 10854, 24 FR 9565, 3 CFR, 1959-1963 Comp., p. 389.

Issued in Fort Worth, TX, on June 27, 2008.
Donald R. Smith,
Manager, Operations Support Group, ATO Central Service Center.

[FR Doc. E8-15235 Filed 7-8-08; 8:45 am]

BILLING CODE 4910-13-M